DEPARTMENT OF THE INTERIOR

National Park Service

[NPS-PWRO-TUSK-27178; PPPWTUSK00, PPMPSPD1Z.YM0000]

Tule Springs Fossil Beds National Monument Advisory Council Notice of Public Meeting

AGENCY: National Park Service, Interior.

ACTION: Meeting notice.

SUMMARY: In accordance with the Federal Advisory Committee Act of 1972, the National Park Service (NPS) is hereby giving notice that the Tule Springs Fossil Beds National Monument Advisory Council (Council) will meet as indicated below.

DATES: The meeting will be held on Monday, April 8, 2019, at 5:00 p.m. (PACIFIC).

ADDRESSES: The meeting will be held at the Federal Interagency Office Building, 4701 N. Torrey Pines Road, Las Vegas, Nevada 89130-2301.

FOR FURTHER INFORMATION CONTACT: Further information concerning the meeting may be obtained from Diane Keith, Superintendent, Tule Springs Fossil Beds National Monument, 601 Nevada Way, Boulder City, Nevada 89005, via telephone at (702) 515-5462, or email at tusk_information@nps.gov.

SUPPLEMENTARY INFORMATION: The Council was established pursuant to section 3092(a)(6) of Public Law 113-291 and in accordance with the provisions of the Federal Advisory Committee Act (5 U.S.C. Appendix 1-16). The purpose of the Council is to advise the Secretary of the Interior with respect to the preparation and implementation of the management plan.

Purpose of the Meeting: The Council will discuss the following:

1. Introduction of the Designated Federal Officer and Council Members

2. Committee Roll

3. Approval of Agenda

4. Review and Approval of Minutes

5. Reports

a. Superintendent Report

b. Old Business

c. New Business

6. Public Comments

7. Adjourn

The meeting is open to the public. Interested persons may make oral/written presentations to the Council during the business meeting or file written statements. Such requests should be made to the Superintendent prior to the meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-05173 Filed 3-18-19; 8:45 am]

BILLING CODE 4312-52-P